DEPARTMENT OF THE INTERIOR

Bureau of Land Management

[LLIDI02000-L16100000-DR0000-LXSS050D0000]

Notice of Availability of Record of Decision for the Pocatello Field Office Resource Management Plan/Environmental Impact Statement

AGENCY: Bureau of Land Management, Interior.

ACTION: Notice of availability.

SUMMARY: The Bureau of Land Management (BLM) announces the availability of the Record of Decision (ROD)/Approved Resource Management Plan (RMP) for the Pocatello Field Office located in southeastern Idaho. The Idaho State Director signed the ROD on July 10, 2012, which constitutes the final decision of the BLM and makes the Approved RMP effective immediately.

ADDRESSES: Copies of the ROD/Approved RMP are available upon request from the Field Manager, Pocatello Field Office, Bureau of Land Management, 4350 Cliffs Drive, Pocatello, Idaho 83204 or at the following Web site: http://www.blm.gov/id/st/en/fo/pocatello/planning/pocatello_resource.html. Copies of the ROD/Approved RMP are available for public inspection at the Pocatello Field Office at the above address and the Idaho State Office at 1387 S. Vinnell Way, Boise, Idaho 83709.

FOR FURTHER INFORMATION CONTACT: David Pacioretty, Field Manager, Bureau of Land Management, Pocatello Field Office; telephone 208-478-6340; address 4350 Cliffs Drive, Pocatello, Idaho 83204; email: id_pocatello_fo@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The approved RMP was developed with public participation through a collaborative planning process in accordance with the Federal Land Policy and Management Act of 1976, as amended, and the National Environmental Policy Act of 1969, as amended. The Approved RMP addresses management of resources and resource uses on approximately 618,300 acres of public land in the Pocatello Field Office located in southeastern Idaho. The Approved RMP is designed to achieve or maintain desired resource conditions developed through the planning process including management actions for forest, upland, and riparian vegetation; wildlife habitat; lands with wilderness charatceristics; cultural and visual resources; and recreation.

The preferred alternative as described in the Draft RMP/Environmental Impact Statement (EIS) was carried forward with some modifications into the Proposed RMP/Final EIS published in the Federal Register on May 7, 2010 [75 FR 25288].

The BLM received two protest letters on the Proposed RMP/Final EIS. The BLM Director denied all protest issues as reported in the Director's Protest Resolution Report which can be reviewed at the following Web site: http://www.blm.gov/wo/st/en/prog/planning/planning_overview/protest_resolution/protestreports.html.

No inconsistencies with State or local plans, policies, or programs were identified during the Governor's consistency review of the Proposed RMP/Final EIS. The Approved RMP is essentially the same as Alternative B described in the Proposed RMP/Final EIS with only minor editorial modifications made in preparing the ROD/Approved RMP. The Approved RMP can be accessed at the following Web site: http://www.blm.gov/id/st/en/fo/pocatello/planning/pocatello_resource.html.

The ROD/Approved RMP includes an implementation level decision designating travel routes for motorized public use in the following areas: The Soda Hills Management Area, Formation Cave Research Natural Area (RNA), Robbers Roost RNA, and Oneida Narrows. This decision is described in the Comprehensive Trails and Travel Management section of the Approved RMP (Action TM-1.2.11). Any party adversely affected by this implementation level decision may file an appeal within 30 days of publication of this Notice of Availability pursuant to 43 CFR, part 4, subpart E. The appeal should state the specific route(s), as identified in Figures 18, 19, 20 and 21 of the Approved RMP that are being appealed.

The appeal must be filed with the Pocatello Field Manager by mail at the above-listed address. Please consult the appropriate regulations and the ROD/Approved RMP for further appeal information and requirements regarding motorized vehicle route designations.

Authority: 40 CFR 1505.2 and 43 CFR 1610.5-1.

Steven A. Ellis,
Idaho State Director.

[FR Doc. 2012-20018 Filed 8-14-12; 8:45 am]

BILLING CODE 4310-GG-P